INTERNATIONAL TRADE COMMISSION

[Investigation No. 731-TA-862 (Final)]

Certain Expandable Polystyrene Resins From Korea

AGENCY: United States International Trade Commission.

ACTION: Termination of investigation.

SUMMARY: On November 16, 2000, the Department of Commerce published notice in the Federal Register of a negative final determination of sales at less than fair value in connection with the subject investigation (65 FR 69284). Accordingly, pursuant to § 207.40(a) of the Commission's rules of practice and procedure (19 CFR 207.40(a)), the antidumping investigation concerning certain expandable polystyrene resins from Korea (Investigation No. 731-TA-862 (Final)) is terminated.

EFFECTIVE DATE: November 16, 2000.

FOR FURTHER INFORMATION CONTACT: Fred Ruggles (202-205-3187), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: This investigation is being terminated under authority of title VII of the Tariff Act of 1930; this notice is published pursuant to § 201.10 of the Commission's rules (19 CFR 201.10).

By order of the Commission.
Issued: December 1, 2000.
Donna R. Koehnke,
Secretary.

[FR Doc. 00-31178 Filed 12-06-00; 8:45 am]

BILLING CODE 7020-02-P